SMALL BUSINESS ADMINISTRATION

13 CFR Part 120

RIN 3245-AE68

Business Loans and Development Company Loans

AGENCY: Small Business Administration (SBA).

ACTION: Withdrawal of direct final rule.

SUMMARY: The SBA is withdrawing the direct final rule published on November 14, 2001 (66 FR 56985) implementing various changes in the Business Loan Program enacted by the Small Business Reauthorization Act of 2000. Pending further evaluation SBA will publish a new rule.

DATES: The direct final rule published at 66 FR 56985, November 14, 2001 is withdrawn, as of December 14, 2001.

FOR FURTHER INFORMATION CONTACT: James W. Hammersley, Director, Office of Loan Programs, Office of Financial Assistance, (202) 205-6490.

SUPPLEMENTARY INFORMATION: The SBA published a direct final rule on November 14, 2001, (66 FR 56985), which incorporated changes to SBA rules concerning loan guaranty and loan amounts, minimum guaranteed dollar amount of 7(a) loans, percentages of financing which can be guaranteed by SBA, guarantee fees paid by lenders, real estate occupancy rules, and borrower prepayment penalties. Subsequent to the publication of the direct final rule, SBA has decided to withdraw it and reconsider portions of the rule. After such reconsideration, SBA will publish a new rule at an early date.

List of Subjects in 13 CFR Part 120

Loan program—business, Small businesses.

Authority: 15 U.S.C. 634(b)(6), 636(a) and (h), 696(3), and 697(a)(2).

Hector V. Barreto,
Administrator.

[FR Doc. 01-30842 Filed 12-13-01; 8:45 am]

BILLING CODE 8025-01-P